NUCLEAR REGULATORY COMMISSION

Sunshine Act Meeting

Agency Holding the Meetings: Nuclear Regulatory Commission.

Dates: Weeks of May 30, June 6, 13, 20, 27, July 4, 2005.

Place: Commissioners' Conference Room, 11555 Rockville Pike, Rockville, Maryland.

Status: Public and Closed.

Matters to be Considered:

Week of May 30, 2005

Tuesday, May 31, 2005

2 p.m. Discussion of Security Issues (Closed—Ex. 1) (This meeting was originally scheduled for June 1st).

Wednesday, June 1, 2005

9:30 a.m. Briefing on Threat Environment Assessment (Closed—Ex. 1) (This meeting was originally scheduled for May 25th).

2:30 p.m. Discussion of Security Issues (Closed—Ex. 1) (This meeting was originally scheduled for May 25th)

Thursday, June 2, 2005

9:30 a.m. Briefing on Office of International programs (OIP) Programs, Performance, and Plans (Public Meeting) (Contact: Margie Doane, 301-415-2344).

This meeting will be webcast live at the Web address— http://www.nrc.gov.

2:30 p.m. Discussion of management Issues (Closed—Ex. 2 & 9).

Week of Week of June 6, 2005—Tentative

There are no meetings scheduled for the week of June 6, 2005.

Week of Week of June 13, 2005—Tentative

There are no meetings scheduled for the week of June 13, 2005.

Week of Week of June 20, 2005—Tentative

There are no meetings scheduled for the week of June 20, 2005.

Week of Week of June 27, 2005—Tentative

Tuesday, June 28, 2005

9:30 a.m. Briefing on Equal Employment Opportunity (EEO) Program (Public Meeting) (Contact: Corenthis Kelley, 301-415-7380).

This meeting will be webcast live at the Web address— http://www.nrc.gov.

Week of July 4, 2005—Tentative

There are no meetings scheduled for the week of July 4, 2005.

*The schedule for Commission meetings is subject to change on short notice. To verify the status of meetings call (recording)—(301) 415-1292. Contact person for more information: Dave Gamberoni, (301) 415-1651.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 24, 2005.
R. Michelle Schroll,
Office of the Secretary.

[FR Doc. 05-10825 Filed 5-26-05; 9:24 am]

BILLING CODE 7590-01-M